NUCLEAR REGULATORY COMMISSION

[Docket No. 72-1050; NRC-2016-0231]

In the Matter of Waste Control Specialists LLC; Consolidated Interim Storage Facility; Correction

AGENCY: Nuclear Regulatory Commission.

ACTION: Correction.

SUMMARY: The U.S. Nuclear Regulatory Commission (NRC) is correcting a notice that was published in the Federal Register (FR) on April 4, 2017, regarding the issuance of an order to Waste Control Specialists, LLC. This action is necessary to correct the ACTION statement and to add the NRC Docket ID to the notice title and the ADDRESSES section.

DATES: The correction is effective April 10, 2017.

ADDRESSES: Please refer to Docket ID NRC-2016-0231 when contacting the NRC about the availability of information regarding this document. You may obtain publicly-available information related to this document using any of the following methods:

• Federal Rulemaking Web site: Go to http://www.regulations.gov and search for Docket ID NRC-2016-0231. Address questions about NRC dockets to Carol Gallagher; telephone: 301-415-3463; email: Carol.Gallagher@nrc.gov.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

SUPPLEMENTARY INFORMATION: In the FR on April 4, 2017, in FR Doc. 2017-06575, on page 16435, in the first column, in the notice title after agency name correct “[Docket No. 72-1050]” to read “[Docket No. 72-1050; NRC-2016-0231]” and in the first sentence under the ADDRESSES section correct “Docket ID 72-1050” to read “Docket ID NRC-2016-0231.” On the same page in the ACTION section correct “Confirmatory order; issuance” to read “Order; issuance.”

Dated at Rockville, Maryland, this 4th day of April 2017.
For the Nuclear Regulatory Commission.
Cindy Bladey,
Chief, Rules, Announcements, and Directives Branch, Division of Administrative Services, Office of Administration.

[FR Doc. 2017-07050 Filed 4-7-17; 8:45 am]

BILLING CODE 7590-01-P